DEPARTMENT OF TRANSPORTATION

Pipeline and Hazardous Materials Safety Administration

[Docket No.: PHMSA-2023-0113; Notice No. 2023-14]

Hazardous Materials: Public Meeting Notice for the Office of Hazardous Materials Safety Research, Development & Technology Virtual Forum

AGENCY: Pipeline and Hazardous Materials Safety Administration (PHMSA), Department of Transportation.

ACTION: Notice of public meeting.

SUMMARY: The Pipeline and Hazardous Materials Safety Administration's (PHMSA) Office of Hazardous Materials Safety (OHMS) will hold a public Research, Development & Technology Virtual Forum on Zoom Webinar on November 28, 2023. During this one-day event, OHMS will present the results of recently completed projects; brief attendees on new project plans; and obtain stakeholder input on the direction of current and future research topics, including mitigation of climate change, risk management and mitigation, packaging integrity, emerging technology, and technical analysis to aid risk assessment. The forum will enable OHMS to solicit comments related to new research topics that may be considered for inclusion in its future work. OHMS is particularly interested in the research gaps associated with energetic materials (explosives) characterization and transportation; safe transportation of energy products (e.g., crude oil); safe containment and transportation of compressed gases; and safe packaging and transportation of charge storage devices (e.g., lithium- ion batteries) and how these might aid in mitigation of climate change. The forum will also provide opportunities for stakeholder input to identify other research gaps related to the transportation of hazardous materials.

ADDRESSES: The meeting will be held virtually on Zoom Meeting on November 28, 2023, from 09:00 a.m. to 5:00 p.m. EST.

Registration: DOT requests attendees pre-register for this meeting by completing the form at https://usdot.zoomgov.com/webinar/register/WN_pCY0ntXkQbejLrbZFcScow. In addition to Zoom Meeting, conference call-in and “live meeting” capability will also be provided. Conference call-in and live meeting access information will be provided in the registration confirmation email.

FOR FURTHER INFORMATION CONTACT: Andy Leyder by mail at the Office of Hazardous Materials Safety, Research, Development & Technology, Pipeline and Hazardous Materials Safety Administration, U.S. Department of Transportation, 1200 New Jersey Avenue SE, West Building: Room W12-140, Washington, DC 20590-0001; by phone at 202-360-0664; or by email at Andrew.Leyder@dot.gov.

Issued in Washington, DC, on November 2, 2023.
William Quade,
Deputy Associate Administrator for Hazardous Materials Safety Pipeline and Hazardous Materials Safety Administration.

[FR Doc. 2023-24609 Filed 11-6-23; 8:45 am]

BILLING CODE 4910-60-P